DEPARTMENT OF COMMERCE

International Trade Administration

[C-570-030]

Certain Cold-Rolled Steel Flat Products From the People's Republic of China: Rescission of Countervailing Duty Administrative Review; 2018

AGENCY: Enforcement and Compliance, International Trade Administration, Department of Commerce.

SUMMARY: The Department of Commerce (Commerce) is rescinding the administrative review of the countervailing duty order on certain cold-rolled steel flat products from the People's Republic of China (China) for the period of review (POR) January 1, 2018, through December 31, 2018.

DATES: Applicable January 15, 2020.

FOR FURTHER INFORMATION CONTACT: John C. McGowan or Glenn T. Bass Jr., AD/CVD Operations, Office VI, Enforcement and Compliance, International Trade Administration, U.S. Department of Commerce, 1401 Constitution Avenue NW, Washington, DC 20230; telephone: (202) 482-3019 or (202) 482-8338, respectively.

SUPPLEMENTARY INFORMATION:

Background

On July 1, 2019, Commerce published in the Federal Register a notice of opportunity to request an administrative review of the countervailing duty order on certain cold-rolled steel flat products from China.¹ On July 31, 2019, Commerce received a timely request for review from ArcelorMittal USA LLC, California Steel Industries, Inc., Nucor Corporation, Steel Dynamics, Inc., and United States Steel Corporation (collectively, the petitioners) and Mitsui & Co. (U.S.A) Inc. (Mitsui) (an interested party). ² The petitioners and Mitsui each filed their request for review in accordance with section 751(a) of the Tariff Act of 1930, as amended (the Act), and 19 CFR 351.213(b). No other interested party requested an administrative review of any company for this segment of the proceeding.

¹ See Antidumping or Countervailing Duty Order, Finding, or Suspended Investigation; Opportunity to Request Administrative Review, 84 FR 31295 (July 1, 2019).

² See Petitioners' Letter, “Cold-Rolled Steel Flat Products from the People's Republic of China: Request for Administrative Review of Countervailing Duty Order,” July 31, 2019; and Letter from Mitsui, “Certain Cold-Rolled Steel Flat Products from China: Request for Administrative Review,” dated July 31, 2019. We note that Mitsui, as the petitioners, requested review of Hoa Sen Group and Tong Dong A Corporation.

On September 9, 2019, Commerce published in the Federal Register a notice of initiation with respect to the 12 companies.³ On December 4 and 6, 2019, the petitioners and Mitsui timely withdrew their requests for an administrative review for all companies for which each had initially requested a review.⁴

³ See Initiation of Antidumping and Countervailing Duty Administrative Reviews, 84 FR 47242, 47252 (September 9, 2019).

⁴ See Petitioners' Letter, “Certain Cold-Rolled Steel Flat Products from the People's Republic of China: Withdrawal of Request for Administrative Review of Countervailing Duty Order,” dated December 6, 2019; Letter from Mitsui, “Certain Corrosion-Resistant Steel Products from the People's Republic of China: Withdrawal of Review Request of Countervailing Duty Order,” dated December 6, 2019; and Memorandum, “Countervailing Duty Administrative Review of Certain Cold-Rolled Steel Flat Products from the People's Republic of China: Clarification of Mitsui & Co. (U.S.A.) Inc.'s December 6, 2019 Withdrawal of Review Request,” dated December 20, 2019.

Rescission of Administrative Review

Pursuant to 19 CFR 351.213(d)(1), Commerce will rescind an administrative review, in whole or in part, if the parties that requested a review withdraw the request within 90 days of the date of publication of the notice of initiation of the requested review. As noted above, the petitioners and Mitsui withdrew their requests for review for all companies by the 90-day deadline, and no other party requested an administrative review of this order. Accordingly, Commerce is rescinding the administrative review of the antidumping duty order on certain cold-rolled steel flat products from China covering the period January 1, 2018, through December 31, 2018, in its entirety.

Assessment

Commerce will instruct U.S. Customs and Border Protection (CBP) to assess countervailing duties on all appropriate entries at a rate equal to the cash deposit of estimated countervailing duties required at the time of entry, or withdrawal from warehouse, for consumption, during the period January 1, 2018 to December 1, 2018, in accordance with 19 CFR 351.212(c)(1)(i). Commerce intends to issue appropriate assessment instructions directly to CBP 15 days after publication of this notice in the Federal Register.

Notification to Importers

This notice serves as the only reminder to importers of their responsibility under 19 CFR 351.402(f)(2) to file a certificate regarding the reimbursement of countervailing duties prior to liquidation of the relevant entries during this review period. Failure to comply with this requirement could result in the presumption that reimbursement of the countervailing duties occurred and the subsequent assessment of doubled countervailing duties.

Notification Regarding Administrative Protective Order

This notice also serves as the only reminder to parties subject to administrative protective order (APO) of their responsibility concerning the return or destruction of proprietary information disclosed under an APO in accordance with 19 CFR 351.305(a)(3). Timely written notification of the return/destruction of APO materials or conversion to judicial protective order is hereby requested. Failure to comply with the regulations and terms of an APO is a violation which is subject to sanction. This notice is issued and published in accordance with sections 751(a)(1) of the Act and 19 CFR 351.213(d)(4).

Dated: January 9, 2019.
James Maeder,
Deputy Assistant Secretary for Antidumping and Countervailing Duty Operations.

[FR Doc. 2020-00491 Filed 1-14-20; 8:45 am]

BILLING CODE 3510-DS-P